SOCIAL SECURITY ADMINISTRATION

President's Commission To Strengthen Social Security

AGENCY: Social Security Administration (SSA).

ACTION: Announcement of meeting location.

DATES: October 18, 2001, 10 a.m.-3 p.m.

ADDRESSES: Park Hyatt Ballroom, Park Hyatt Washington, 24th at M Street NW., Washington, DC 20037, (202) 789-1234.

SUPPLEMENTARY INFORMATION: The Federal Register notice announcing the October 18 meeting of the President's Commission to Strengthen Social Security did not include a meeting location. The purpose of this announcement is to provide the meeting location.

The Commission will meet commencing Thursday, October 18, at 10 a.m. and ending at 3 p.m., with a break for lunch between noon and 1 p.m. A series of panels will present testimony to members of the Commission. Panelists will include young Americans, academics, and technical experts.

Dated: October 3, 2001.
Michael A. Anzick,
Designated Federal Officer.

[FR Doc. 01-25441 Filed 10-9-01; 8:45 am]

BILLING CODE 4191-02-P